DEPARTMENT OF COMMERCE

International Trade Administration

[A-580-883]

Certain Hot-Rolled Steel Flat Products From the Republic of Korea: Preliminary Results of Antidumping Duty Administrative Review and Preliminary Determination of No Shipments; 2021-2022

AGENCY: Enforcement and Compliance, International Trade Administration, Department of Commerce.

SUMMARY: The U.S. Department of Commerce (Commerce) preliminarily finds that certain hot-rolled steel flat products (hot-rolled steel) from the Republic of Korea (Korea) were not sold at less than normal value during the period of review (POR), October 1, 2021, through September 30, 2022. We invite interested parties to comment on these preliminary results.

DATES: Applicable June 13, 2023.

FOR FURTHER INFORMATION CONTACT: Dmitry Vladimirov or Thomas Schauer, AD/CVD Operations, Office I, Enforcement and Compliance, International Trade Administration, U.S. Department of Commerce, 1401 Constitution Avenue NW, Washington, DC 20230; telephone: (202) 482-0665 or (202) 482-0410, respectively.

SUPPLEMENTARY INFORMATION:

Background

On October 3, 2016, Commerce published in the Federal Register an antidumping duty order on hot-rolled steel from Korea.¹ On October 3, 2022, we published in the Federal Register a notice of opportunity to request an administrative review of the Order.² On December 5, 2022, based on timely requests for an administrative review, Commerce initiated an antidumping duty administrative review of 48 companies.³

¹ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016) (Order).

² See Antidumping or Countervailing Duty Order, Finding, or Suspended Investigation; Opportunity To Request Administrative Review and Join Annual Inquiry Service List, 87 FR 59775 (October 3, 2022).

³ See Initiation of Antidumping and Countervailing Duty Administrative Reviews, 87 FR 74404, 74406-07 (December 5, 2022).

Scope of the Order

The products covered by this Order are hot-rolled steel from Korea. A full description of the scope of the Order is contained in the Preliminary Decision Memorandum.⁴

⁴ See Memorandum, “Decision Memorandum for Preliminary Results of Antidumping Duty Administrative Review; 2020-2021,” dated concurrently with, and hereby adopted by, this notice (Preliminary Decision Memorandum).

Methodology

Commerce is conducting this review in accordance with section 751(a) of the Tariff Act of 1930, as amended (the Act). Export price and constructed export price are calculated in accordance with section 772 of the Act. Normal value is calculated in accordance with section 773 of the Act.

For a full description of the methodology underlying these preliminary results, see the Preliminary Decision Memorandum. A list of the topics discussed in the Preliminary Decision Memorandum is attached as Appendix I to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

Preliminary Determination of No Shipments

One company under review, Aekyung Chemical Co., Ltd. (Aekyung),⁵ filed a statement reporting that it made no sales or exports of subject merchandise to the United States during the POR.⁶ We received no information from U.S. Customs and Border Protection (CBP) that contradicts Aekyung's no-shipments claim.⁷ Consequently, we preliminarily determine that Aekyung had no shipments during the POR. Consistent with Commerce's practice, we find that it is not appropriate to rescind the review with respect to Aekyung, but rather to complete the review and issue appropriate instructions to CBP based on the final results of this review.⁸

⁵ In the Initiation Notice, this company was listed as Aekyung Chemical, based on the request for review received by Commerce.

⁶ See Aekyung's Letter, “No Shipments Letter,” dated January 4, 2023.

⁷ See Memorandum, “No shipment inquiry with respect to Aekyung Chemical Co., Ltd. during the period 10/01/2021 through 09/30/2022,” dated March 10, 2023.

⁸ See Antidumping and Countervailing Duty Proceedings: Assessment of Antidumping Duties, 68 FR 23954 (May 6, 2003).

Rate for Non-Examined Companies

The statute and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally an amount equal to the weighted average of the estimated weighted-average dumping margins established for exporters and producers individually investigated, excluding any zero or de minimis margins, and any margins determined entirely on the basis of facts available.

However, where the dumping margins for individually examined respondents are all zero, de minimis, or based entirely on facts available, section 735(c)(5)(B) of the Act provides that Commerce may use “any reasonable method to establish the estimated all others rate for exporters and producers not individually investigated, including averaging the estimated weighted average dumping margins determined for the exporters and producers individually investigated.” In this review, we preliminarily calculated a weighted-average dumping margin of zero for both Hyundai Steel Company (Hyundai Steel) and for POSCO.⁹ Thus, in accordance with section 735(c)(5)(B) of the Act, and consistent with the U.S. Court of Appeals for the Federal Circuit's decision in Albemarle,¹⁰ and Commerce's practice,¹¹ we are preliminarily assigning the zero percent rate to the companies not selected for individual examination listed in Appendix II of this notice, because we calculated zero percent rates for the mandatory respondents.

⁹ We initiated this review with respect to the following companies: POSCO and POSCO International Corporation. See Initiation Notice, 87 FR at 74407. Commerce previously treated POSCO and POSCO International Corporation as a single entity. See Certain Hot-Rolled Steel Flat Products from the Republic of Korea: Preliminary Results of Antidumping Duty Administrative Review; 2019-2020, 86 FR 59985 (October 29, 2021), and accompanying Preliminary Decision Memorandum, at 6-13, unchanged in Certain Hot-Rolled Steel Flat Products from the Republic of Korea: Final Results of Antidumping Duty Administrative Review; 2019-2020, 87 FR 12660 (March 7, 2022).

¹⁰ See Albemarle Corp v. United States, 821 F.3d 1345 (Fed. Cir. 2016) (Albemarle).

¹¹ See, e.g., Certain Cold-Rolled Steel Flat Products from the Republic of Korea: Final Results of Antidumping Duty Administrative Review; 2019-2020, 87 FR 15371 (March 18, 2022).

Preliminary Results of Review

We preliminarily determine that the following weighted-average dumping margins exist for the period October 1, 2021, through September 30, 2022:

¹² See Appendix II for a full list of companies not individually examined in this review.

Producer/exporter | Weighted- average dumping margin (percent)
Hyundai Steel Company | 0.00
POSCO; POSCO International Corporation | 0.00
Companies Not Individually Examined ¹² | 0.00

Disclosure and Public Comment

We intend to disclose the calculations performed to parties within five days after public announcement of the preliminary results.¹³ Pursuant to 19 CFR 351.309(c), interested parties may submit case briefs no later than 30 days after the date of publication of this notice. Rebuttal briefs, limited to issues raised in the case briefs, may be filed not later than seven days after the date for filing case briefs.¹⁴ Interested parties who submit case briefs or rebuttal briefs in this proceeding are encouraged to submit with each argument: (1) a statement of the issue; (2) a brief summary of the argument; and (3) a table of authorities.¹⁵ Executive summaries should be limited to five pages total, including footnotes. Note that Commerce has temporarily modified certain of its requirements for serving documents containing business proprietary information, until further notice.¹⁶

¹³ See 19 CFR 351.224(b).

¹⁴ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect).”).

¹⁵ See 19 CFR 351.309(c)(2) and (d)(2).

¹⁶ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5:00 p.m. Eastern Time within 30 days after the date of publication of this notice.

Commerce intends to issue the final results of this administrative review, including the results of its analysis of the issues raised in any written briefs, not later than 120 days after the date of publication of this notice, unless extended, pursuant to section 751(a)(3)(A) of the Act and 19 CFR 351.213(h)(1).

Assessment Rates

Upon completion of the final results, Commerce shall determine, and CBP shall assess, antidumping duties on all appropriate entries covered by this review. If either of the respondents' weighted-average dumping margins is not zero or de minimis (i.e., less than 0.50 percent) in the final results of this review, we intend to calculate an importer-specific assessment rate based on the ratio of the total amount of dumping calculated for each importer's examined sales and the total entered value of those same sales in accordance with 19 CFR 351.212(b)(1).¹⁷ If either of the respondents' weighted-average dumping margin or an importer-specific assessment rate is zero or de minimis in the final results of review, we intend to instruct CBP to liquidate entries without regard to antidumping duties.¹⁸ The final results of this administrative review shall be the basis for the assessment of antidumping duties on entries of merchandise covered by the final results of this review and for future deposits of estimated duties, where applicable.¹⁹

¹⁷ See Antidumping Proceedings: Calculation of the Weighted-Average Dumping Margin and Assessment Rate in Certain Antidumping Proceedings: Final Modification, 77 FR 8101, 8103 (February 14, 2012).

¹⁸ Id., 77 FR at 8102-03; see also 19 CFR 351.106(c)(2).

¹⁹ See section 751(a)(2)(C) of the Act.

For entries of subject merchandise during the POR produced by either of the respondents for which they did not know that the merchandise was destined to the United States, we will instruct CBP to liquidate unreviewed entries at the all-others rate if there is no rate for the intermediate company(ies) involved in the transaction.²⁰ For the companies identified in Appendix II that were not selected for individual examination, we will instruct CBP to liquidate entries at the rate established after the completion of the final results of review.

²⁰ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of administrative review for all shipments of hot-rolled steel from Korea entered, or withdrawn from warehouse, for consumption on or after the date of publication as provided by section 751(a)(2)(C) of the Act: (1) the cash deposit rate for the respondents will be equal to the weighted-average dumping margin established in the final results of this administrative review; (2) for merchandise exported by a company not covered in this review but covered in a prior segment of the proceeding, the cash deposit rate will continue to be the company-specific rate published in the completed segment for the most recent period; (3) if the exporter is not a firm covered in this review or the original investigation but the producer is, then the cash deposit rate will be the rate established in the completed segment for the most recent period for the producer of the merchandise; (4) the cash deposit rate for all other producers or exporters will continue to be 6.05 percent, the all-others rate established in the less-than-fair-value investigation.²¹ These cash deposit requirements, when imposed, shall remain in effect until further notice.

²¹ See Order, 81 FR at 67965.

Final Results of Review

Unless the deadline is otherwise extended, Commerce intends to issue the final results of this administrative review, including the results of its analysis of issues raised by interested parties in the written comments, within 120 days of publication of these preliminary results in the Federal Register, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

We are issuing and publishing these preliminary results in accordance with sections 751(a)(1) and 777(i)(1) of the Act, and 19 CFR 351.221(b)(4).

Dated: June 7, 2023.
Lisa W. Wang,
Assistant Secretary for Enforcement and Compliance.

Appendix I

List of Topics Discussed in the Preliminary Decision Memorandum

I. Summary

II. Background

III. Scope of the Order

IV. Discussion of the Methodology

V. Currency Conversion

VI. Recommendation

Appendix II

List of Companies Not Selected for Individual Examination

1. AJU Besteel Co., Ltd.

2. Ameri Source Korea

3. Chemaven Co., Ltd.

4. Cj Cheiljedang Corp.

5. Cj Global Logistics Service Inc.

6. Dongkuk Industries Co., Ltd.

7. Dongkuk Steel Mill Co., Ltd.

8. Geco Industries Co., Ltd.

9. Geumok Tech. Co., Ltd.

10. Goi Tech Industries Co., Ltd.

11. Golden State Corporation

12. Gs Global Corp.

13. Gs Holdings Corp.

14. Hanawell Co., Ltd.

15. Hanjin Gls Co., Ltd.

16. Hankook Co., Ltd.

17. HISTEEL

18. Hyosung Corporation

19. Hyosung Tnc Corporation

20. Hyundai Glovis Co., Ltd.

21. Hyundai Rb Co., Ltd.

22. Il Jin Nts Co., Ltd.

23. Inchang Electronics Co., Ltd.

24. J&K Korea Co., Ltd.

25. Jeil Industries Co., Ltd.

26. Jeil Metal Co., Ltd.

27. Jin Young Metal

28. Jun Il Co., Ltd.

29. KG Dongbu Steel Co., Ltd.

30. KG Steel Corporation

31. Kumkang Kind Co., Ltd.

32. Lg Electronics Inc.

33. Maxflex Corp.

34. Mitsubishi Corp. Korea

35. Mitsui Chemicals & Skc Polyurethane

36. Nexteel Co., Ltd.

37. Samsung Electronics Co., Ltd.

38. SeAH Steel Corporation

39. Sja Inc. (Korea)

40. Solvay Silica Korea

41. Soon Ho Co., Ltd.

42. Sumitomo Corp. Korea Ltd.

43. Sungjin Precision

44. Wintec Korea Inc.

45. Wonbangtech Co., Ltd.

[FR Doc. 2023-12646 Filed 6-12-23; 8:45 am]

BILLING CODE 3510-DS-P